DEPARTMENT OF THE INTERIOR

Bureau of Land Management

[CA-067-02-1610-JP-064B]

Notice of Intent To Prepare an Amendment to the California Desert Conservation Area Plan

AGENCY: Bureau of Land Management, Interior.

ACTION: Notice of intent to prepare an amendment to the California Desert Conservation Area (CDCA) Plan and Environmental Assessment (EA) in the Western Colorado section of Imperial County, CA.

SUMMARY: Pursuant to 43 CFR 1610.2(c), notice is hereby given that the Bureau of Land Management proposes to amend the CDCA Plan, as amended in 1980. The proposed amendment will establish or revise designations of areas and trails for off-road vehicles in accordance with 43 CFR part 8342. The proposals will pertain to public lands addressed by the California Desert Conservation Area Plan in Imperial County that lie west of the Southern Pacific Railroad and the Chocolate Mountain Gunnery Range (excluding the Imperial Sand Dunes) and the western boundary of the CDCA in San Diego County, California. The proposed plan amendment will include an EA in accordance with the National Environmental Policy Act and CFR 1610.5-5.

DATES: The public is invited to submit comments on the scope of the plan amendment and EA. Written comments will be accepted until May 17, 2002. Two (2) public meetings California area. The times and places for meetings will be published in the Imperial Valley Press and the Yuma Daily Sun.

ADDRESSES: Comments should be sent to Greg Thomsen, Field Manager, Bureau of Land Management, El Centro Field Office, 1661 South 4th Street, El Centro, CA 92243-4561. Comments, including names and addresses of respondents, will be available for public review at the El Centro Field Office during normal working hours (7:45 AM to 4:30 PM, except holidays), and may be published as part of the EA or other related documents. Individuals may request confidentiality. If you wish to withhold your name or address from public review or from disclosure under the Freedom of Information Act, you must state this promptly at the beginning of your comment. Such requests will be honored to the extent allowed by law. All submissions from organizations or businesses will be made available for public inspection in their entirety.

FOR FURTHER INFORMATION CONTACT: Arnold F. Schoeck, Lead Outdoor Recreation Planner, at the above address, telephone number (760) 337-4441, or e-mail at Arnold_Schoeck.ca.blm.gov.

SUPPLEMENTARY INFORMATION: Public input from previous public meetings and written comments in response to previous designations efforts will be used to define issues. Preliminary issues identified include: providing for off-highway vehicle use; providing adequate vehicle access for other casual uses; visitor safety; providing protection for Peninsular Bighorn Sheep and Flat-tailed Horned Lizards; and homeland defense (i.e., US-Mexican Border issues).

Planning criteria will include honoring valid existing rights. The CDCA amendment will be consistent with officially approved resource related plans, policies and programs of other Federal agencies, State and local governments, and Indian Tribes. The proposed route of travel designation changes to the CDCA Plan requires a formal plan amendment before the designation changes can be implemented. The amendment process and ORV trail designations shall be conducted in compliance with the Federal Land Policy Management Act of 1976 (FLPMA), planning regulations (43 CFR part 1600), ORV trail designation regulations (43 CFR part 8340), BLM manual guidance, and all applicable Federal laws affecting BLM land use decisions and ORV designations. The planning process shall include an EA with a biological evaluation prepared in compliance with the National Environmental Policy Act of 1969 (NEPA), the President's Council of Environmental Quality (CEQ) regulations (40 CFR part 1500), and Bureau guidance.

The Bureau intends to rely largely on existing route inventory data, information obtained from coordination with other federal, state, and local agencies, and consultation with Indian tribes, and public comments.

Three alternatives are anticipated to be: (1) A No Action Alternative that will maintain the existing designations. (2) The Updated Designation Alternative that will propose the designation changes identified in the previous update effort (1997). (3) A Protection Alternative that will propose additional seasonal closures and route closures in addition to changes in the Updated Designation Alternative.

Dated: March 15, 2002.
Greg Thomsen,
Field Manager.

[FR Doc. 02-7237 Filed 3-22-02; 8:45 am]

BILLING CODE 1610-40-P